DEPARTMENT OF LABOR

Pension and Welfare Benefits Administration

Disclosure Obligations Under ERISA; Notice of Extension of Comment Period

AGENCY: Pension and Welfare Benefits Administration, Labor.

ACTION: Notice of extension of comment period.

SUMMARY: This document reopens and extends the period for submitting information on the disclosure obligation of fiduciaries of employee benefit plans governed by ERISA. Comments were originally requested in a notice of request for information published in the Federal Register on September 14, 2000 (65 FR 55858). Under that notice, written comments from the public were requested to be submitted to the Department of Labor on or before January 12, 2001.

DATES: The period for submission of written comments to the Department of Labor is reopened and extended through February 22, 2001.

ADDRESSES: Comments (preferably, at least six copies) should be addressed to the Office of Regulations and Interpretations, Pension and Welfare Benefits Administration, Room N-5669, U.S. Department of Labor, Washington, DC 20210. Attention: Disclosure RFI. All comments received will be available for public inspection at the Public Disclosure Room, Pension and Welfare Benefits Administration, U.S. Department of Labor, Room N-1513, 200 Constitution Ave., NW., Washington, DC 20210.

FOR FURTHER INFORMATION CONTACT: Ellen Goodwin or Susan Lahne, Office of Regulations and Interpretations, Pension and Welfare Benefits Administration, Room N-5669, U.S. Department of Labor, Washington, DC 20210, telephone (202) 219-8671; or Patricia Arzuaga, Plan Benefits Security Division, Office of the Solicitor, Room N-4611, U.S. Department of Labor, Washington, DC 20210, telephone (202) 693-5625. These are not toll-free numbers.

SUPPLEMENTARY INFORMATION: On September 14, 2000, the Department of Labor (Department) published a request for information in the Federal Register (65 FR 55858) regarding the disclosure obligations of fiduciaries of employee benefit plans subject to the Employee Retirement Income Security Act (ERISA). That notice requested information from the public as to whether it would be in the interest of plans and their participants and beneficiaries for the Department to undertake action to clarify the extent of fiduciary duties under ERISA regarding disclosure and the interaction of fiduciary duty with the specific disclosure requirements of Title I of ERISA. The request for information contained several specific questions and hypothetical factual scenarios and asked the public to address their written comments to these issues.

The Department has received requests from some members of the public for additional time to prepare comments in response to the request for information. Due to the complexity of the issues presented, the Department believes it is appropriate to grant such additional time. Therefore, this notice reopens and extends the period during which comments on the disclosure obligations of plan fiduciaries may be submitted. Accordingly, comments on the questions discussed in the notice of request for information published in the Federal Register on September 14, 2000 (65 FR 55858) are requested to be submitted to the Department on or before February 22, 2001.

Authority: 29 U.S.C. 1143; Secretary of Labor's Order No. 1-87, 52 FR 13139.

Signed at Washington, DC, this 17th day of January 2001.
Leslie B. Kramerich,
Assistant Secretary, Pension and Welfare Benefits Administration.

[FR Doc. 01-1891 Filed 1-22-01; 8:45 am]

BILLING CODE 4510-29-P